Title 3—

The President

Executive Order 14085 of October 3, 2022

Expanding Eligibility for Certain Military Decorations and Awards

By the authority vested in me as President and as Commander in Chief of the Armed Forces of the United States by the Constitution and the laws of the United States of America, the following Executive Orders are amended as follows:

Section 1. Amendments to Executive Order 9158. Executive Order 9158 of May 11, 1942 (Air Medal), as amended by Executive Order 9242-A of September 11, 1942 (Amending Executive Order No. 9158 of May 11, 1942, to Provide that the Air Medal May Be Awarded to Persons Serving with the Army, Navy, Marine Corps, or Coast Guard of the United States), is further amended as follows:

(a) The first paragraph is amended—

(i) by striking “Army and Navy” and inserting in lieu thereof “Armed Forces”;

(ii) by striking “any person” and inserting in lieu thereof “those individuals”;

(iii) by inserting “Air Force, Space Force,” after “Marine Corps,”; and

(iv) by striking “distinguishes, or has distinguished, himself” and inserting in lieu thereof “distinguish, or have distinguished, themselves”.

(b) The second paragraph is amended—

(i) by amending the first sentence to read as follows: “The Air Medal and appurtenances thereto shall be of appropriate design approved by the Secretary of Defense and, under such regulations as the Secretaries of the military departments may prescribe, may be awarded by the Secretary of the Army, the Secretary of the Navy, the Secretary of the Air Force, or the Secretary of Homeland Security with respect to the Coast Guard when it is not operating as a service in the Navy, or by such commanding officers of the Army, Navy, Marine Corps, Air Force, Space Force, or Coast Guard as the said Secretaries may respectively designate.”; and

(ii) in the second sentence, by striking “his jurisdiction” and inserting in lieu thereof “the jurisdiction of the Navy”.

(c) The following new paragraph is added at the end of the Executive Order: “The regulations of the Secretaries of the military departments concerned with respect to the award of the Air Medal shall, so far as practicable, be uniform and shall be subject to the approval of the Secretary of Defense.”.

Sec. 2. Amendments to Executive Order 8809. Executive Order 8809 of June 28, 1941 (Good Conduct Medal), as amended by Executive Order 9323 of March 31, 1943 (Amendment of Executive Order No. 8809 of June 28, 1941, Establishing the Good Conduct Medal), and Executive Order 10444 of April 10, 1953 (Amendment of Executive Order No. 8809 of June 28, 1941, Establishing the Good Conduct Medal, As Amended by Executive Order No. 9323 of March 31, 1943), is further amended—

(a) by striking “men” and inserting in lieu thereof “members”;

(b) by inserting “and on or after December 20, 2019, in the case of the United States Space Force,” after “August 27, 1940,”;

(c) by inserting “and on or after December 20, 2019, in the case of the United States Space Force,” after “December 7, 1941,”; and

(d) by inserting “, and on or after December 20, 2019, in the case of the United States Space Force” after “June 27, 1950”.

Sec. 3. Amendments to Executive Order 10694. Paragraph 1 of Executive Order 10694 of January 10, 1957 (Authorizing the Secretaries of the Army, Navy, and Air Force to Issue Citations in the Name of the President of the United States to Military and Naval Units for Outstanding Performance in Action), is amended by inserting “, and on or after December 20, 2019, in the case of the Space Force” after “or the Air Force”.

Sec. 4. Amendments to Executive Order 11046. Paragraph 1 of Executive Order 11046 of August 24, 1962 (Authorizing Award of the Bronze Star Medal), is amended—

(a) by striking “Transportation” and inserting in lieu thereof “Homeland Security”;

(b) by striking “any person” and inserting in lieu thereof “those individuals”;

(c) by inserting “Space Force,” after “Air Force,”; and

(d) by striking “distinguishes, or has distinguished, himself” and inserting in lieu thereof “distinguish, or have distinguished, themselves”.

Sec. 5. Amendments to Executive Order 13830. Executive Order 13830 of April 20, 2018 (Delegation of Authority to Approve Certain Military Decorations), is amended as follows:

(a) The paragraph preceding section 1 is amended—

(i) by striking “3742, 3743, 3746, 3749, 3750, 6242, 6243, 6244, 6245, 6246, 8742, 8743, 8746, 8749, and 8750” and inserting in lieu thereof “7272, 7273, 7276, 7279, 7280, 8292, 8293, 8294, 8295, 8296, 9272, 9273, 9276, 9279, 9280, and 9280a”; and

(ii) by striking “491a, 492, 492a, 492b, and 493” and inserting in lieu thereof “2735, 2736, 2737, 2738, and 2739”.

(b) Section 1 is amended—

(i) by striking “any person” and inserting in lieu thereof “those individuals”;

(ii) by inserting “Space Force,” after “Air Force,”; and

(iii) by striking “distinguishes himself or herself” and inserting in lieu thereof “distinguish themselves”.

(c) Section 2 is amended—

(i) by striking “any person” and inserting in lieu thereof “those individuals”;

(ii) by inserting “Space Force,” after “Air Force,”; and

(iii) by striking “distinguishes himself or herself” and inserting in lieu thereof “distinguish themselves”.

(d) Section 3 is amended by inserting “Space Force,” after “Air Force,”.

(e) Section 4 is amended—

(i) in paragraph (a)—

(A) by striking “any member” and inserting in lieu thereof “members”; and

(B) by striking “has distinguished himself or herself” and inserting in lieu thereof “distinguish themselves”; and

(ii) in paragraph (c), by striking “his”.

(f) Section 5(a) is amended—

(i) by striking “any eligible person” and inserting in lieu thereof “eligible persons”; and

(ii) by striking “distinguishes himself or herself” and inserting in lieu thereof “distinguish themselves”.

(g) Section 6(a) is amended—

(i) by striking “any person” and inserting in lieu thereof “those individuals”; and

(ii) by striking “distinguishes himself or herself” and inserting in lieu thereof “distinguish themselves”.

Sec. 6. Amendments to Executive Order 11545. Executive Order 11545 of July 9, 1970 (Establishing the Defense Distinguished Service Medal), is amended as follows:

(a) Section 1 is amended by striking “military officer” and inserting in lieu thereof “member of the Armed Forces of the United States”.

(b) Section 2 is amended by striking “he” and inserting in lieu thereof “the Secretary”.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

October 3, 2022.

[FR Doc. 2022-21911

Filed 10-5-22; 8:45 am]

Billing code 3395-F3-P